DEPARTMENT OF AGRICULTURE

Forest Service

Revision of Land Management Plan for National Forests in Mississippi

AGENCY: Forest Service, USDA.

ACTION: Notice of adjustment for resuming the land management plan revision process.

SUMMARY: The Forest Service, U.S. Department of Agriculture is resuming preparation of the National Forests in Mississippi revised land management plan as directed by the National Forest Management Act (NFMA). Preparation of the revised plan was halted when the 2005 Forest Service planning rule was enjoined. A new planning rule (36 CFR Part 219) took effect on April 21, 2008, allowing the planning process to be resumed. This notice marks the resumption of the National Forests in Mississippi plan revision process under the new planning rule.

DATES: This notice is effective on October 24, 2008.

ADDRESSES: Submit written comments to; Forest Plan Revision, National Forests in Mississippi, 100 West Capitol Street, Suite 1141, Jackson, MS 39269. Submit electronic comments and other data to: Mississippi_Plan@fs.fed.us. See SUPPLEMENTARY INFORMATION for file formats and other information about electronic access and filling.

FOR FURTHER INFORMATION CONTACT: Jeff Long, Team Leader Plan Revision, National Forests in Mississippi, (601) 965-1629; TTY (601) 965-1791.

SUPPLEMENTARY INFORMATION: The Bienville, Delta, De Soto, Holly Springs, Homochitto, and Tombigbee National Forests are managed as a single administrative unit (National Forests in Mississippi). Notification of adjustment of the plan revision process for the National Forests in Mississippi land management plan was provided in the Federal Register on July 27, 2005 (70 FR 43391). The plan revision was being developed under the planning procedures contained in the 2005 Forest Service planning rule (36 CFR 219 (2005)). On March 30, 2007, the Federal district court for the Northern District of California enjoined the Department from implementing and using the 2005 planning rule until the Agency complied with the court's order regarding the National Environmental Policy Act, the Endangered Species Act, and the Administrative Procedure Act (Citizens for Better Forestry v. USDA, 481 F. Supp 2d 1059 (N.D. Cal. 2007)). Revision of the National Forests in Mississippi land management plan under the (36 CFR 219 (2005)) rule was suspended in response to the injunction. On April 21, 2008, following a notice and comment opportunity, completion of an environmental impact statement and consultation under the Endangered Species Act, the Department of Agriculture promulgated a new planning rule (36 CFR part 219 (2008)). This new planning rule explicitly allows the resumption of plan revisions started under the 2005 rule based on a finding that the revision process conforms to the new planning rule (36 CFR 219.14(b)(3)(ii)).

Prior to the injunction of the 2005 planning rule, the National Forests in Mississippi had substantially engaged the public in collaboration efforts to develop plan components, completed a draft Comprehensive Evaluation Report, worked with the scientific community on addressing concerns for species viability and sustainability to be addressed in the revised plan, had developed the model for timber suitability and sustainability analysis, and had completed initial drafts of major plan components.

Based on the discussions above, I find that the planning actions taken prior to April 21, 2008, the effective date of the new planning rule, conform to the planning process of the 2008 planning rule and for that reason, the plan revision process does not need to be restarted. Therefore, the National Forests in Mississippi is resuming its plan revision process by moving forward with developing a draft plan for formal public review. Future meetings will be announced on the National Forests in Mississippi Web site, and a formal comment opportunity will be provided when the draft plan is completed. The Forest plan revision World Wide Web Internet address is: http://www.fs.fed.us/r8/mississippi/forest_plan/forestrevision/index.htm.

Authority: 16 U.S.C. 1600-1614; 36 CFR 219.14.

Dated: October 15, 2008.
R.E. Vann, III,
Acting Forest Supervisor, National Forests in Mississippi.

[FR Doc. E8-25390 Filed 10-23-08; 8:45 am]

BILLING CODE 3410-11-P